DEPARTMENT OF ENERGY

Federal Energy Regulatory Commission

[Project No. 349-173]

Alabama Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 349-173.

c. Date filed: June 8, 2011.

d. Applicant: Alabama Power Company (Alabama Power)

e. Name of Project: Martin Dam Hydroelectric Project.

f. Location: The existing Martin Dam Project is located on the Tallapoosa River in northeast Alabama, in Tallapoosa, Coosa, and Elmore Counties, Alabama, near the cities of Alexander City and Dadeville, Alabama. The project occupied 1.36 acres of federal lands.

g. Filed Pursuant to: Federal Power Act 16 U.S.C. 791 (a)-825(r)

h. Applicant Contacts: Theodore J. McCullough, Senior Vice President and Senior Production Officer, Alabama Power Company, 600 North 18th Street, P.O. Box 2641, Birmingham, AL 35291, telephone (205) 257-8180; James F. Crew, Manager, Hydro Services, Alabama Power Company, 600 North 18th Street, P.O. Box 2641, Birmingham, AL 35291, telephone (205) 257-4265.

i. FERC Contact: Jennifer Adams, (202) 502-8087 or jennifer.adams@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Martin Dam Project is located at river mile 420.0 on the Tallapoosa River near the cities of Alexander City and Dadeville, Alabama. Martin dam impounds about 31 miles of the Tallapoosa River, forming Martin reservoir (or Lake Martin), a 41,150-acre reservoir with (a) 880 miles of shoreline, (b) a gross storage capacity of 1,622,000 acre-feet, and (c) active storage of 1,381,077 acre-feet at a 45.5-foot drawdown.

The Martin Dam Project consists of: (1) A 2,000-foot-long, 168-foot-high concrete gravity dam and an earth dike section, and includes (a) a 720-foot-long gated spillway section with 20 vertical lift spillway gates, each measuring 30 feet wide by 16 feet high; (b) a 250-foot-long concrete gravity intake structure, (c) a 255-foot-long concrete gravity non-overflow section, and (d) an approximately 1,000-foot-long earth embankment; (2) a reservoir with a surface area of 41,150 acres at normal full pool elevation of 491 feet mean sea level (msl); (3) headworks containing four steel penstocks and 12 intake gates, each fitted with trash racks; (4) a 307.9-foot-long, 58-foot-wide, and 99-foot-high brick and concrete, steel-frame powerhouse; (5) four vertical Francis turbines that power four generating units with a total installed capacity of 182.5 megawatts; (6) two 450-foot-long transmission lines; and (7) appurtenant facilities. The project generates about 33,000,000 megawatt-hours annually.

The Martin Dam Project operates as a peaking project using a multipurpose storage reservoir (Lake Martin), in which the water levels fluctuate seasonally. Under its normal peaking operations, the project operates between elevations 481 and 491 feet msl. Flows from the dam vary from leakage during periods of non-generation to 17,900 cubic feet per second (cfs) during generation. The Martin Dam Project typically generates Monday through Friday for eight hours per day. Releases from Martin dam are made directly into Alabama Power's Yates and Thurlow Hydroelectric Project No. 2407. The Thurlow dam is required to release a minimum flow of 1,200 cfs. Releases from Martin dam are often necessary to maintain the 1,200-cfs minimum flow requirement.

Alabama Power uses three guide curves for the Martin Dam Project: (1) A flood control guide; (2) an operating guide; and (3) a drought contingency curve. The flood control guide maximizes lake elevations for flood control purposes. The operating guide limits fluctuations in Lake Martin to water levels that stakeholders deemed acceptable during the previous relicensing process for the Martin Dam Project. The area between the flood control guide and operating guide represents the range that Alabama Power operates the project under normal inflow conditions. The drought contingency plan provides an indication of impending hydrologic drought conditions.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Deadline for filing comments, recommendations, preliminary terms and conditions, and preliminary fishway prescriptions | April 2012.
Draft EIS issued | October 2012.
Comments on draft EIS due | December 2012.
Deadline for filing modified terms and conditions | December 2012.
Final EIS issued | March 2013.

p. Final amendments to the application must be filed with the Commission no later than 30 days from the issuance date of this notice.

q. A license applicant must file no later than 60 days following the date of issuance of the notice of acceptance and ready for environmental analysis provided for in 18 CFR 5.22: (1) A copy of the water quality certification; (2) a copy of the request for certification, including proof of the date on which the certifying agency received the request; or (3) evidence of waiver of water quality certification.

r. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant named in this public notice.

Dated: February 8, 2012.
Kimberly D. Bose,
Secretary.

[FR Doc. 2012-3402 Filed 2-13-12; 8:45 am]

BILLING CODE 6717-01-P